DEPARTMENT OF TRANSPORTATION

Surface Transportation Board

[STB Docket No. AB-575 (Sub-No. 1X)]

Montana Rail Link, Inc.—Abandonment Exemption—in Lake County, MT

On August 13, 2002,¹ Montana Rail Link, Inc. (MRL) filed with the Surface Transportation Board (Board) a petition under 49 U.S.C. 10502 for exemption from the provisions of 49 U.S.C. 10903 to abandon a 4.35-mile line of railroad, including rail yard facilities in Polson, MT, between milepost 29.05 and milepost 33.40 on MRL's 11th Branch Line Subdivision, in Lake County, MT. The line traverses U.S. Postal Service Zip Code 59860, and includes the station of Polson.

¹ The petition was initially received on June 12, 2002, but was incomplete and only a partial fee was provided. The balance was received on July 22, 2002, but all missing information was not provided until August 13, 2002. Hence, that date will be considered the filing date.

The line does not contain federally granted rights-of-way. Any documentation in MRL's possession will be made available promptly to those requesting it.

The interest of railroad employees will be protected by the conditions set forth in Oregon Short Line R. Co.—Abandonment—Goshen, 360 I.C.C. 91 (1979).

By issuance of this notice, the Board is instituting an exemption proceeding pursuant to 49 U.S.C. 10502(b). A final decision will be issued by November 29, 2002.

Any offer of financial assistance under 49 CFR 1152.27(b)(2) will be due no later than 10 days after service of a decision granting the petition for exemption. Each offer must be accompanied by a $1,100 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than September 19, 2002. Each trail use request must be accompanied by a $150 filing fee. See 49 CFR 1002.2(f)(27).

All filings in response to this notice must refer to STB Docket No. AB-575 (Sub-No. 1X) and must be sent to: (1) Surface Transportation Board, 1925 K Street, NW., Washington, DC 20423-0001; and (2) Steven Werner, Montana Rail Link, 101 International Way, P.O. Box 16390, Missoula, MT 59808-6390. Replies to the petition are due on or before September 19, 2002.

Persons seeking further information concerning abandonment procedures may contact the Board's Office of Public Services at (202) 565-1592 or refer to the full abandonment or discontinuance regulations at 49 CFR part 1152. Questions concerning environmental issues may be directed to the Board's Section of Environmental Analysis (SEA) at (202) 565-1552. [Assistance for the hearing impaired is available through the Federal Information Relay Service (FIRS) at 1-800-877-8339.]

An environmental assessment (EA) (or environmental impact statement (EIS), if necessary), prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our Web site at “http://www.stb.dot.gov.”

Decided: August 23, 2002.
By the Board, David M. Konschnik, Director, Office of Proceedings.
Vernon A. Williams,
Secretary.

[FR Doc. 02-22209 Filed 8-29-02; 8:45 am]

BILLING CODE 4915-00-P